NUCLEAR REGULATORY COMMISSION

10 CFR Part 50

[Docket No. PRM-50-125; NRC-2024-0135]

Returning a Decommissioning Plant to Operating Status

AGENCY: Nuclear Regulatory Commission.

ACTION: Petition for rulemaking; notice of docketing and request for comment.

SUMMARY: The U.S. Nuclear Regulatory Commission (NRC) has received a petition for rulemaking from Alan Blind and Roger Rapoport, dated July 1, 2024, requesting that the NRC revise its regulations to include a Commission-approved process for returning a decommissioning plant to operational status. The petition was docketed by the NRC on July 23, 2024, and has been assigned Docket No. PRM-50-125. The NRC is examining the issues raised in PRM-50-125 to determine whether they should be considered in rulemaking. The NRC is requesting public comment on this petition at this time.

DATES: Submit comments by December 3, 2024. Comments received after this date will be considered if it is practical to do so, but the NRC is able to assure consideration only for comments received on or before this date.

ADDRESSES: You may submit comments by any of the following methods however, the NRC encourages electronic comment submission through the Federal rulemaking website:

• Federal Rulemaking Website: Go to https://www.regulations.gov and search for Docket ID NRC-2024-0135. Address questions about NRC dockets to Helen Chang; telephone: 301-415-3228; email: Helen.Chang@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. eastern time, Federal workdays; telephone: 301-415-1677.

You can read a plain language description of this petition for rulemaking at https://www.regulations.gov/docket/NRC-2024-0135. For additional direction on obtaining information and submitting comments, see “Obtaining Information and Submitting Comments” in the SUPPLEMENTARY INFORMATION section of this document.

FOR FURTHER INFORMATION CONTACT: Soly Soto Lugo, U.S. Nuclear Regulatory Commission, Washington, DC 20555-0001; telephone: 301-415-7528, email: Soly.Sotolugo@nrc.gov.

SUPPLEMENTARY INFORMATION:

I. Obtaining Information and Submitting Comments

A. Obtaining Information

Please refer to Docket ID NRC-2024-0135 when contacting the NRC about the availability of information for this action. You may obtain publicly available information related to this action by any of the following methods:

• Federal Rulemaking website: Go to https://www.regulations.gov and search for Docket ID NRC-2024-0135.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: The NRC Public Document Room (PDR), where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal Rulemaking website (https://www.regulations.gov). Please include Docket ID NRC-2024-0135 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. The Petitioner and Petition

The petition for rulemaking (PRM) was filed by Alan Blind and Roger Rapoport. Subsequently, the petitioner submitted additional signatures of community members near the Palisades Nuclear Plant (Palisades) in support of the petition. The PRM requests that the NRC revise its regulations at 10 CFR part 52, “Licenses, Certifications, and Approvals for Nuclear Power Plants,” to include a Commission-approved process for returning a decommissioning plant to operational status. The NRC understands the petition, based on the context and references within, to mean plants currently in the decommissioning process rather than fully decommissioned plants and to be requesting a revision of the part 50 regulations rather than part 52 regulations. The petition may be found in ADAMS at Accession No. ML24205A122.

III. Discussion of the Petition

The petition states that the NRC staff lack a specific NRC Commission-approved and codified process for licensing, inspecting, and approving the return to service of a power reactor that has entered decommissioning. The petitioner requests that the NRC conduct rulemaking to include a codified process for returning a decommissioning plant to operational status. The petitioner points to the ongoing Palisades proceedings as examples for where new, codified processes are needed.

The petition states that the NRC received a proposal for a regulatory path to the reauthorization of power operations at the Palisades plant using the current regulatory framework. The petition also states that the proposed framework is based on a denial of PRM-50-117, “Criteria to Return Retired Nuclear Power Reactors to Operations” (86 FR 24362), which the petitioner states is taken out of context by Holtec/Palisades. The petitioner contends that returning a plant that has entered the decommissioning process to an operational status does not meet the applicability requirements of 10 CFR 50.12, “Specific exemptions;” 50.59, “Changes, tests and experiments” and 50.90, “Application for amendment of license, construction permit, or early site permit.” The petitioner also states that a generic rulemaking to establish a Commission-approved process for returning a decommissioning plant to operational status is necessary as Palisades is the first plant seeking NRC approval to transition from a decommissioning status back to operations.

The petitioner did not provide proposed regulatory language but rather proposed elements that should be included in the rulemaking. These elements include decommissioning status and configuration verification, aging management, quality assurance during restart and operations, equipment maintenance, personnel qualifications, license expirations, hearing process, appropriate licensing basis, startup testing, and NRC catchup review, as well as completion of past, open commitments.

In addition, the petitioner requests that the NRC revise its regulations to require the NRC to review all materials associated with license transfers to new entities for the purpose of completion of decommissioning. The petitioner also requests that the NRC revise its regulations to require that entities previously approved primarily for decommissioning activities submit a new license transfer application in accordance with 10 CFR 50.80, “Transfer of licenses,” before that entity can be qualified to engage in activities associated with power operations. The petitioner contends that this requirement would ensure that the NRC assesses the qualifications of the requesting entity based on evidence of its operational capabilities and not evidence of its decommissioning qualifications.

Only public comments responsive to PRM-50-125 regarding the request that the NRC revise its regulations to include a Commission-approved process for returning a decommissioning plant to an operational status will be considered. Note that this is a separate process from the ongoing NRC consideration of requested actions related to the potential restart of the Palisades Nuclear Plant, which has separate Docket IDs, and can be found at NRC-2024-0128 and NRC-2024-0130.

IV. Conclusion

The NRC has determined that the petition meets the sufficiency requirements for docketing a PRM under 10 CFR 2.803, “Petition for rulemaking-NRC action.” The NRC will examine the issues raised in PRM-50-125 and any comments received in response to this comment request to determine whether these issues should be considered in rulemaking. While the petition is being evaluated, the NRC staff will continue to follow existing regulations for its regulatory activities.

The public can monitor further action on the rulemaking that will address this petition by searching Docket ID NRC-2024-0135 on the Federal rulemaking website, https://www.regulations.gov. The site allows members of the public to receive alerts when changes or additions occur in a docket folder. To subscribe: (1) navigate to the docket folder (NRC-2024-0135); (2) click the “Subscribe” link; and (3) enter an email address and click on the “Subscribe” link. The NRC also tracks the status of all NRC rules and PRMs on its website at https://www.nrc.gov/about-nrc/regulatory/rulemaking/rules-petitions.html.

Dated: September 10, 2024.
For the Nuclear Regulatory Commission.
Carrie Safford,
Secretary of the Commission.

[FR Doc. 2024-20936 Filed 9-18-24; 8:45 am]

BILLING CODE 7590-01-P